DEPARTMENT OF ENERGY

Federal Energy Regulatory Commission

Combined Notice of Filings #1

Take notice that the Commission received the following electric rate filings:

Docket Numbers: ER12-778-000.

Applicants: Puget Sound Energy, Inc.

Description: OATT Formula Rate Filing Refund Report to be effective N/A.

Filed Date: 7/29/13.

Accession Number: 20130729-5120.

Comments Due: 5 p.m. ET 8/19/13.

Docket Numbers: ER13-265-002.

Applicants: Nevada Power Company.

Description: Rate Schedule No. 134 Interim BA Services Agmt-Errata to Compliance Filing to be effective 11/1/2012.

Filed Date: 7/29/13.

Accession Number: 20130729-5162.

Comments Due: 5 p.m. ET 8/19/13.

Docket Numbers: ER13-1317-002.

Applicants: Entergy Arkansas, Inc.

Description: RSP Agreements Compliance Filing to be effective 6/28/2013.

Filed Date: 7/29/13.

Accession Number: 20130729-5155.

Comments Due: 5 p.m. ET 8/19/13.

Docket Numbers: ER13-1370-001.

Applicants: MATL LLP.

Description: Compliance Filing to be effective 7/1/2013.

Filed Date: 7/29/13.

Accession Number: 20130729-5163.

Comments Due: 5 p.m. ET 8/19/13.

Docket Numbers: ER13-2048-000.

Applicants: Southwest Power Pool, Inc.

Description: 1976R2 Kaw Valley Electric Cooperative, Inc. NITSA and NOA to be effective 6/27/2013.

Filed Date: 7/29/13.

Accession Number: 20130729-5108.

Comments Due: 5 p.m. ET 8/19/13.

Docket Numbers: ER13-2049-000.

Applicants: PJM Interconnection, L.L.C.

Description: Queue Position W4-009/X4-005; Original Service Agreement No. 3604 to be effective 6/28/2013.

Filed Date: 7/29/13.

Accession Number: 20130729-5161.

Comments Due: 5 p.m. ET 8/19/13.

Docket Numbers: ER13-2050-000.

Applicants: Solar Partners VIII, LLC.

Description: Application for Market-Based Rate Tariff to be effective 8/22/2013.

Filed Date: 7/29/13.

Accession Number: 20130729-5165.

Comments Due: 5 p.m. ET 8/8/13.

Docket Numbers: ER13-2051-000.

Applicants: Southern California Edison Company.

Description: Amended Service Agmts for Wholesale Distribution Serv for Devers-Mirage Project to be effective 6/1/2013.

Filed Date: 7/29/13.

Accession Number: 20130729-5176.

Comments Due: 5 p.m. ET 8/19/13.

Docket Numbers: ER13-2052-000.

Applicants: PJM Interconnection, L.L.C.

Description: Revisions to PJM Rate Schedule 46—Market Monitor Services Agreement to be effective 12/31/9998.

Filed Date: 7/29/13.

Accession Number: 20130729-5177.

Comments Due: 5 p.m. ET 8/19/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2013.
Nathaniel J. Davis, Sr.,
Deputy Secretary.

[FR Doc. 2013-19581 Filed 8-13-13; 8:45 am]

BILLING CODE 6717-01-P